DEPARTMENT OF COMMERCE

International Trade Administration

University of Chicago; Application(s) for Duty-Free Entry of Scientific Instruments

Pursuant to section 6(c) of the Educational, Scientific and Cultural Materials Importation Act of 1966 (Pub. L. 89-651, asamended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before May 8, 2024. Address written comments to Statutory Import Programs Staff, Room 41006, U.S. Department of Commerce, Washington, DC 20230. Please also email a copy of those comments to Dianne.Hanshaw@trade.gov.

Docket Number: 23-016. Applicant: University of Chicago, 929 East 57th Street, GCIS ESB04, Chicago, IL 60637. Instrument: Fiber Laser. Manufacturer: PreciLasers, China. Intended Use: The instrument is intended to be used for Quantum computing and Quantum simulation using Potassium Silver molecules in an array of optical tweezers. Potassium Silver molecules are ideal candidates for performing quantum simulations due to their defect-free properties and highly tunable interactions. These molecules will be prepared by first laser cooling potassium and silver atoms, using the lasers ordered from PreciLasers. Then, they will be associated into molecules using magnetic fields, and transferred into the absolute ground state potential, using another set of lasers. Justification for Duty-Free Entry: According to the applicant, there are no instruments of the same general category manufactured in the United States. Application accepted by Commissioner of Customs: October 20, 2023.

Dated: March 7, 2024.
Gregory W. Campbell,
Director, Subsidies and Economic Analysis, Enforcement and Compliance.

[FR Doc. 2024-08268 Filed 4-17-24; 8:45 am]

BILLING CODE 3510-DS-P